DEPARTMENT OF DEFENSE

[DOD-2006-OS-0058]

National Reconnaissance Office; Privacy Act of 1974; System of Records

AGENCY: National Reconnaissance Office.

ACTION: Notice to alter a system of records.

SUMMARY: The National Reconnaissance Office is altering a system of records notice in its existing inventory of record systems subject to the Privacy Act of 1974, (5 U.S.C. 552a), as amended.

DATES: This proposed action will be effective without further notice on May 4, 2006 unless comments are received which result in a contrary determination.

ADDRESSES: Send comments to the FOIA/Privacy Official, National Reconnaissance Office, Information Access and Release, 14675 Lee Road, Chantilly, VA 20151-1715.

FOR FURTHER INFORMATION CONTACT: Ms. Theresa Rosenbaum at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on March 23, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 28, 2006.
L.M. Bynum,
OSD Federal Register Liaison Officer, Department of Defense.

QNRO-01

System name:

Health and Fitness Evaluation Records (August 22, 2000, 65 FR 50969).

Changes:

* * * * *

System location:

Delete entry and replace with: “Fitness units within the National Reconnaissance Office, 14675 Lee Road, Chantilly, VA 20151-1715.”

* * * * *

Categories of records in the system:

Delete entry and replace with: “Name, Social Security Number, gender, employer, employee number, work telephone number, date of birth, parent organization; permission slips to participate in testing; letters from commanding officers indicating certain individuals need to participate in certain programs; and health history to include such items as weight, height, body fat, measurements, blood pressure and cholesterol levels, orthopedic problems, and exercise restrictions, participations' program goals from which the health staff design individual fitness programs, a physician's referral when it has been required for participation in the program.”

* * * * *

Purpose(s):

Delete entry and replace with: “The purpose of this system is to provide fitness assessments and design wellness programs for participants. Each participant is given a paper copy of the assessment and program goals”.

* * * * *

QNRO-1

System name:

Health and Fitness Evaluation Records.

System location:

Fitness units within the National Reconnaissance Office, 14675 Lee Road, Chantilly, VA 20151-1715.

Categories of individuals covered by the system:

National Reconnaissance Office (NRO) civilian, military, and contractor personnel who have chosen to participate in a wellness and fitness program.

Categories of records in the system:

Name, Social Security Number, gender, employer, employee number, work telephone number, date of birth, parent organization; permission slips to participate in testing; letters from commanding officers indicating certain individuals need to participate in certain programs; and health history to include such items as weight, height, body fat, measurements, blood pressure and cholesterol levels, orthopedic problems, and exercise restrictions, participants' program goals from which the health staff design individual fitness programs, a physician's referral when it has been required for participation in the program.

Authority for maintenance of the system:

National Security Act of 1947, as amended, 50 U.S.C. 401 et seq.; 5 U.S.C. 301, Departmental Regulations; E.O. 12333; and E.O. 9397 (SSN).

Purpose(s):

The purpose of this system is to provide fitness assessments and design wellness programs for participants. Each participant is given a paper copy of the assessment and program goals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routines Uses” published at the beginning of the NRO compilation of systems of records notices apply to this system.

Policies and practices for storing, retrieving, accessing, retaining, and disposing of records in the system:

Storage:

Automated information system, maintained in computers and computer output products.

Retrievability:

Name, Social Security Number, and parent organization.

Safeguards:

Records are stored in a secure, gated facility, guard, badge, and password access protected. Access to and use of these records are limited to fitness staff whose official duties require such access. Records are stored on a stand-alone computer; paper files are stored in a locked filing cabinet. Office access is restricted to a limited number of personnel.

Retention and disposal:

Records are destroyed six years after date of the last entry. Electronic records are deleted; paper records are shredded.

System manager(s) and address:

Chief, Environmental Safety Health and Fitness Division, Management Services and Operations, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Record access procedures:

Individuals seeking to access information about themselves contained in this system should address written inquiries to the National Reconnaissance Office, Information Access and Release Center, 14675 Lee Road, Chantilly, VA 20151-1715. Request should include the individual's full name, address, Social Security Number, and other information identifiable from the record.

In addition, the requester must provide a notarized statement or an unsworn declaration made in accordance with 28 U.S.C. 1746, in the following format:

If executed without the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Contesting record procedures:

The NRO rules for accessing records, for contesting contents and appealing initial agency determinations are published in NRO Directive 110-3 and NRO Instruction 110-5; 32 CFR part 326; or may be obtained from the NRO Privacy Act Coordinator, National Reconnaissance Office, 14675 Lee Road, Chantilly, VA 20151-1715.

Record source categories:

Information is supplied by the participants; the ESFH staff, and occasionally the participant's physician.

Exemptions claimed for the system:

None.

[FR Doc. 06-3203 Filed 4-03-06; 8:45 am]

BILLING CODE 5001-06-M